DEPARTMENT OF COMMERCE

National Oceanic and Atmospheric Administration

RIN 0648-XG382

Pacific Fishery Management Council; Public Meeting

AGENCY: National Marine Fisheries Service (NMFS), National Oceanic and Atmospheric Administration (NOAA), Commerce.

ACTION: Notice of public meeting (webinar).

SUMMARY: The Pacific Fishery Management Council (Pacific Council) will convene a webinar meeting of its Ad Hoc Trawl Groundfish Electronic Monitoring Policy Advisory Committee (GEMPAC) which is open to the public.

DATES: The webinar will be held August 17, 2018, from 9 a.m. to 1 p.m. (Pacific Standard Time), or until business has been completed.

ADDRESSES: The meeting will be held via webinar. A public listening station is available at the Pacific Council office (address below). To attend the webinar from your computer, tablet or smartphone, use this link: https://global.gotomeeting.com/join/837382429 and follow the prompts. (1) You must use your telephone for the audio portion of the meeting by dialing this TOLL number: 1-571-317-3122. (2) Enter the Attendee phone audio access code 837-382-429. (3) Enter your audio phone pin (shown after joining the webinar). Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220-1384.

FOR FURTHER INFORMATION CONTACT: Brett Wiedoff, Pacific Council; telephone: (503) 820-2424.

SUPPLEMENTARY INFORMATION: The purpose of the meeting is for the GEMPAC to develop comments and recommendations regarding electronic monitoring topics scheduled for the Pacific Council's September meeting in Seattle, Washington. Specifically, the Committee will review and comment on the draft National Marine Fisheries Service Procedural Directive on Cost Allocations in Electronic Monitoring Programs for Federally Managed U.S. Fisheries and develop a prioritized a list of electronic monitoring policy issues for the Pacific Council to consider in the future.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: July 31, 2018.
Tracey L. Thompson,
Acting Deputy Director, Office of Sustainable Fisheries, National Marine Fisheries Service.

[FR Doc. 2018-16658 Filed 8-2-18; 8:45 am]

BILLING CODE 3510-22-P